DEPARTMENT OF STATE

[Public Notice: 10803]

Foreign Affairs Policy Board Meeting Notice; Closed Meeting

In accordance with the Federal Advisory Committee Act, 5 U.S.C. App., the Department of State announces a meeting of the Foreign Affairs Policy Board to take place on July 8, 2019, at the Department of State, Washington, DC.

The Foreign Affairs Policy Board reviews and assesses: (1) Global threats and opportunities; (2) trends that implicate core national security interests; (3) technology tools needed to advance the State Department's mission; and (4) priorities and strategic frameworks for U.S. foreign policy. Pursuant to section 10(d) of the Federal Advisory Committee Act, 5 U.S.C. 10(d), and 5 U.S.C. 552b(c)(l), it has been determined that this meeting will be closed to the public as the Board will be reviewing and discussing matters properly classified in accordance with Executive Order 13526.

This announcement might appear in the Federal Register less than 15 days prior to the meeting. The Department of State finds that there is an exceptional circumstance in that this advisory committee meeting must be held on July 8th to accommodate the schedule of the Secretary of State.

For more information, contact Emily Sissell at (202) 647-4293.

Dated: June 17, 2019.
Kiron K. Skinner,
Director, Office of Policy Planning, Department of State.

[FR Doc. 2019-13159 Filed 6-20-19; 8:45 am]

BILLING CODE 4710-10-P